DEPARTMENT OF COMMERCE

National Oceanic and Atmospheric Administration

RIN 0648-XA335

Fisheries of the South Atlantic, Gulf of Mexico, and Caribbean; Southeastern Data, Assessment, and Review (SEDAR); Public Meeting

AGENCY: National Marine Fisheries Service (NMFS), National Oceanic and Atmospheric Administration (NOAA), Commerce.

ACTION: Notice of SEDAR Steering Committee Meeting.

SUMMARY: The SEDAR Steering Committee will meet to discuss the SEDAR assessment schedule, budget, and the SEDAR process. See SUPPLEMENTARY INFORMATION.

DATES: The SEDAR Steering Committee will meet on Monday, May 2, 2011, from 9 a.m. to 4 p.m.

ADDRESSES: The meeting will be held at the Doubletree Guest Suites Charleston-Historic District, 181 Church Street, Charleston, SC 29401; telephone: (843) 414-1666.

Council address: South Atlantic Fishery Management Council, 4055 Faber Place, Suite 201, North Charleston, SC 29405.

FOR FURTHER INFORMATION CONTACT: John Carmichael, SEDAR Program Manager, SEDAR/SAFMC, 4055 Faber Place, Suite 201, North Charleston, SC 29405; telephone: (843) 571-4366 or toll free (866) SAFMC-10; fax: (843) 769-4520.

SUPPLEMENTARY INFORMATION: The South Atlantic, Gulf of Mexico, and Caribbean Fishery Management Councils; in conjunction with NOAA Fisheries, the Atlantic States Marine Fisheries Commission, and the Gulf States Marine Fisheries Commission; implemented the Southeast Data, Assessment and Review (SEDAR) process, a multi-step method for determining the status of fish stocks. The SEDAR Steering Committee meets regularly to provide oversight of the SEDAR process, establish assessment priorities, and provide coordination between assessment efforts and management activities.

During this meeting the Steering Committee will receive reports on recent SEDAR activities, consider benchmark and update assessment scheduling for 2012-2016, and discuss the SEDAR budget and process.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

The meeting is physically accessible to people with disabilities. Requests for sign language interpretation or other auxiliary aids should be directed to the South Atlantic Fishery.

Management Council office at the address listed above at least 7 business days prior to the meeting.

Dated: March 25, 2011.
Tracey L. Thompson,
Acting Director, Office of Sustainable Fisheries, National Marine Fisheries Service.

[FR Doc. 2011-7479 Filed 3-29-11; 8:45 am]

BILLING CODE 3510-22-P